DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting of the Gulf of Mexico Fishery Management Council.

SUMMARY: The Gulf of Mexico Fishery Management Council (Council) will hold a meeting of the Ad Hoc Red Snapper Individual Fishing Quota (IFQ) Advisory Panel.

DATES: The meeting will be held 9 a.m. until 5 p.m. on Tuesday, November 5 and 9 a.m. until 12 noon Wednesday, November 6, 2013.

ADDRESSES: Meeting address: The meeting will be held at the Council office, 2203 North Lois Avenue, Suite 1100, Tampa, FL 33607.

Council address: Gulf of Mexico Fishery Management Council, 2203 North Lois Avenue, Suite 1100, Tampa, FL 33607.

FOR FURTHER INFORMATION CONTACT: Dr. Assane Diagne, Economist, Gulf of Mexico Fishery Management Council; telephone: (813) 348-1630; fax: (813) 348-1711; email: assane.diagne@gulfcouncil.org.

SUPPLEMENTARY INFORMATION: The items of discussion on the meeting agenda are as follows:

Ad Hoc Red Snapper Individual Fishing Quotas (IFQ) Agenda, Tuesday, November 5, 2013, 9 a.m. Until 5 p.m.

1. Adoption of Agenda

2. Election of Chair and Vice-Chair

3. Council's Charge to the Panel

4. Summary of Reef Fish Amendment 26—Red Snapper IFQ Program

5. Recommendations and Conclusions of the 5-year Review

6. Summary of Administrative Changes

Ad Hoc Red Snapper Individual Fishing Quotas (IFQ) Agenda, Wednesday, November 6, 2013, 9 a.m. Until 12 Noon

1. Red Snapper IFQ Program and Referendum Requirements

2. Recommended Modifications to the IFQ Program

3. Other Business

For meeting materials see folder “Ad Hoc Red Snapper IFQ AP 11-2013” on the Gulf Council ftp server: http://ftp.gulfcouncil.org?user=anonymous; or by calling (813) 348-1630.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: October 17, 2013.
Tracey L. Thompson,
Acting Deputy Director, Office of Sustainable Fisheries, National Marine Fisheries Service.

[FR Doc. 2013-24686 Filed 10-21-13; 8:45 am]

BILLING CODE 3510-22-P